DEPARTMENT OF COMMERCE

National Oceanic and Atmospheric Administration

Public Comment for the NOAA Research and Development Plan

AGENCY: National Oceanic and Atmospheric Administration (NOAA), Office of Oceanic and Atmospheric Research (OAR), Department of Commerce (DOC).

ACTION: Notice of public comment.

SUMMARY: This notice sets forth a public comment for NOAA's Research and Development (R&D) Plan set for release in 2019. NOAA R&D is an investment in the scientific knowledge and technology that will allow the United States to protect lives and property, adapt to challenges, sustain a strong economy, and manage natural resources. The R&D strategic plan will provide a common understanding among NOAA's leadership, workforce, partners, and constituents on the value and direction of NOAA R&D activities.

DATES: Comments are due by February 8, 2019.

Please refer to the web page https://nrc.noaa.gov/CouncilProducts/ResearchPlans.aspx to find the previous NOAA R&D plan.

ADDRESSES: Submit public comments via email to noaa.rdplan@noaa.gov. Include “NOAA R&D Plan Public Comment” in the subject line of the message. All comments received are part of the public record.

FOR FURTHER INFORMATION CONTACT: Dr. Gary Matlock, Deputy Assistant Administrator for Science, NOAA, Rm. 11461, 1315 East-West Highway, Silver Spring, Maryland 20910. (Phone: 301-734-1185, Email: gary.c.matlock@noaa.gov)or visit the NOAA RDEC website at https://nrc.noaa.gov/About/Committees.aspx.

SUPPLEMENTARY INFORMATION: Key vision statement areas of the plan include: (1) Reduced societal impacts from severe weather and other environmental phenomena; (2) Sustainable use of ocean and coastal resources; and (3) A robust and effective research, development, and transition enterprise. Comments may address the proposed vision statements as well as key questions, objectives, document structure, and other content and formatting aspects to consider for a draft R&D Plan.

Dated: October 31, 2018.
David Holst,
Chief Financial Officer/Administrative Officer, Office of Oceanic and Atmospheric Research, National Oceanic and Atmospheric Administration.

[FR Doc. 2018-26131 Filed 12-7-18; 8:45 am]

BILLING CODE 3510-KD-P